DEPARTMENT OF COMMERCE

National Institute of Standards and Technology

[Docket No. 171003965-7965-01]

Hollings Manufacturing Extension Partnership Program; Knowledge Sharing Strategies.

AGENCY: National Institute of Standards and Technology, Department of Commerce.

ACTION: Notice; request for information.

SUMMARY: The Hollings Manufacturing Extension Partnership (MEP) Program includes a network of centers located in all 50 States and Puerto Rico, and is a source of trusted advice about new technologies, production techniques and business management practices. In order for the MEP System to grow, improve and have a greater impact on the growth and competitiveness of U.S. manufacturers in the global marketplace, the MEP System needs to transform to an organizationally and operationally integrated MEP National Network. This transformation will require a learning and knowledge sharing infrastructure, which NIST MEP envisions will be stood up as “The MEP Network Learning and Knowledge Sharing System” (MEP NLKSS). NIST is requesting information from interested vendors and others on possible designs and implementation of networked learning and knowledge sharing. The responses will inform NIST's planning of the MEP NLKSS, including assisting NIST MEP with the development of the final Statement of Work for a performance-based contract.

DATES: NIST will accept responses to this request for information until 11:59 p.m. Eastern Time on August 17, 2018.

ADDRESSES: Responses will be accepted by email only. Responses must be sent to meprfi@nist.gov with the subject line “MEP Network Learning and Knowledge Sharing System RFI Response.”

FOR FURTHER INFORMATION CONTACT: Michael Simpson, 100 Bureau Drive, Mail Stop 4800, Gaithersburg, MD 20899-4800, 301-975-5020, meprfi@nist.gov; or Mary Ann Pacelli, 100 Bureau Drive, Mail Stop 4800, Gaithersburg, MD 20899-4800, 301-975-5020, meprfi@nist.gov. Please direct media inquiries to NIST's Office of Public Affairs at 301-975-NIST (6478).

SUPPLEMENTARY INFORMATION: NIST will consider the information obtained in response to this request for information in the development of a Scope of Work for a competitively awarded contract to develop and/or implement any or all parts of the MEP NLKSS.

Background—The MEP System

The MEP System consists of NIST MEP and its MEP Centers located in all 50 States and Puerto Rico. For almost 30 years the MEP Centers have served as trusted advisors focused largely on the continuous improvement of U.S. manufacturers for the purpose of achieving improved productivity. MEP Centers are a diverse system of state, university-based, and other non-profit organizations, comprising more than 1,300 technical experts offering products, technical expertise and services that address the critical needs of their local manufacturers. MEP Centers are funded through cooperative agreements issued by NIST.

Each MEP Center works directly with manufacturers in their area to provide expertise and services tailored to their most critical needs, ranging from process improvement and workforce development to business practices and technology transfer. Additionally, MEP Centers connect manufacturers with government and trade associations, universities and research laboratories, and a host of other public and private resources to help manufacturers realize individual business goals.

Through the efforts of its existing MEP Centers to provide services to small and medium-sized U.S. manufacturers, the MEP System addresses many of the needs of small and medium-sized U.S. manufacturers. However, to continue to effectively enhance the productivity and technological performance of U.S. manufacturing, and assist manufacturers with competing in the global economy, MEP Centers require access to expertise specific to a given technology, supply chain and/or sector which any one specific MEP Center may not possess.

Since its creation in 1988, the MEP System has become a source of trusted advice about new technologies, production techniques, and business management practices for a significant number of firms (about 8,000 to 10,000 per year). The MEP System engages another 20,000 to 22,000 firms each year in training and outreach events. However, NIST recognizes that past events do not predict the future, and the MEP program must continue to add new capabilities to all its MEP Centers to improve its support of small and medium-sized U.S. manufacturers in the United States.

While successful in serving U.S. manufacturers locally, there is much more work to be done to support U.S. manufacturing supply chains. In general, the MEP System can do a better job in leveraging its diverse capabilities and regional and national strengths to reach more companies. NIST recognizes a need to provide more services to more manufacturers. The MEP Program understands the need to assist more manufacturers to establish a resilient, dependable, productive, and highly-trained supplier base to meet national manufacturing needs to support a wide array of U.S. industrial sectors, for example, the defense, transportation, and physical infrastructure sectors.

Transformation to a National Network

To address the challenges facing the MEP Program and its customers, the system needs to transform from its current state to one organized and operated as an integrated MEP National Network. The integrated MEP National Network is envisioned as an organization of MEP Centers which collectively act on a regional and national basis to provide solutions to the current and future needs of small and medium-sized manufacturers across the United States.

The transformation of the MEP System to an integrated MEP National Network will require a learning and knowledge sharing infrastructure to assist MEP Centers with obtaining access to integrated solutions for serving U.S. manufacturers. NIST MEP envisions the learning and knowledge sharing infrastructure will be stood up as “The MEP Network Learning and Knowledge Sharing System” (MEP NLKSS). The MEP NLKSS is expected to include both the human and digital networks necessary to support access to and the sharing of expertise, best practices, community resources, and training and professional development within the integrated MEP National Network, thus allowing the MEP Centers to access and impart relevant technical and strategic knowledge to small and medium-sized manufacturers locally, regionally, and nationally.

The integrated MEP National Network is being built on the MEP Centers' ability to serve as trusted advisors for their clients. By strengthening the MEP footprint with the connected MEP NLKSS, both manufacturers and MEP Centers can benefit. For example, manufacturers can take advantage of expertise, delivery credibility, and services that are not offered by their local MEP Center or that need to be delivered across regions. More specifically, using the NKLSS, manufacturers will be able to benefit from the following:

• Access to resources and capabilities from the MEP National Network to address their unique, complex, critical business and technology challenges quickly, even if their local MEP Center does not possess such solutions;

• In those situations where a manufacturer has multiple locations in multiple states the MEP National Network, and the NKLSS will allow the creation and sharing of new processes, technologies, and capabilities for all locations, consistently and seamlessly from multiple MEP Centers.

Similarly, through the NLKSS, MEP Centers will be able to share resources and expertise, communicate frequently and widely on market and manufacturing trends, and assist each other across the U.S. Moreover, MEP Centers will be able to take advantage of the broad base of expertise the integrated MEP National Network will offer and can bring the right resources to bear regardless of their location. More specifically, the NLKSS will provide MEP Centers opportunities to:

• Serve more manufacturers;

• Partner with other MEP Centers to provide services locally, regionally, or nationally;

• Deliver services that have been developed at other MEP Centers;

• Increase capacity and capabilities for project activities with existing and new manufacturers;

• Assist manufacturers to bring new products to market quickly and effectively;

• Share timely intelligence about manufacturing trends as a repeatable process;

• Train MEP Center personnel on new services, approaches, and tools used at other MEP Centers;

• Share and deploy the unique strengths inherent to the three types of MEP Center host organizations: states, universities, and non-profit organizations.

No Confidential Proprietary, Business or Personally Identifiable Information

No confidential proprietary information, business identifiable information, or personally identifiable information should be included in the written responses to this request for information. Reponses received by the deadline may be made publicly available without change at: www.nist.gov/mep.

Request for Information

Considering the description of the MEP NLKSS above, NIST MEP is seeking input and information regarding how other organizations and vendors have modeled and addressed organization learning and knowledge sharing, especially in a manufacturing services environment. The responses are intended to inform NIST's planning of the MEP NLKSS, including assisting NIST MEP with the development of the final Statement of Work for a performance-based contract. Through this notice, NIST requests information from interested vendors and others on possible designs and implementation of networked learning and knowledge sharing, particularly with respect to the following issues:

(1) Key problems and issues NIST MEP and the network will face related to knowledge management in the near-term (1 to 2 years), mid-term (3 to 5 years) and/or long-term (more than 5 years);

(2) Solutions (technical and non-technical) available to address the problems/issues identified in question 1 in the near-term (1 to 2 years), mid-term (3 to 5 years) and/or long-term (more than 5 years). More specifically,

a. Specific solutions available to address the needs of working groups/communities of practice;

b. Specific solutions available to address the more immediate needs of individual practitioners and management;

c. How information is best disseminated to the leadership and staff of organizations within a network, and whether this would be applicable for the integrated MEP National Network;

(3) Cultural and technical barriers that need to be addressed by any system(s) of knowledge management;

(4) Complementary services, including information services, that are and/or will be needed by NIST MEP and the MEP Centers to take full advantage of any knowledge management system and culture;

(5) Any other critical issues that NIST MEP should consider in its strategic planning for investments in this area that are not covered by the first four issues. Further information on the MEP program is available at: https://www.nist.gov/mep.

Authority: 15 U.S.C. 278k.

Kevin A. Kimball,
Chief of Staff.

[FR Doc. 2018-15265 Filed 7-17-18; 8:45 am]

BILLING CODE 3510-13-P